DEPARTMENT OF THE TREASURY

Office of Foreign Assets Control

Unblocking of Three Specially Designated Nationals Pursuant to Executive Order 13224

AGENCY: Office of Foreign Assets Control, Treasury.

ACTION: Notice.

SUMMARY: The Treasury Department's Office of Foreign Assets Control (“OFAC”) is removing the names of three individuals from the list of Specially Designated Nationals and Blocked Persons whose property and interests in property have been blocked pursuant to Executive Order 13224 of September 23, 2001, Blocking Property and Prohibiting Transactions With Persons Who Commit, Threaten To Commit, or Support Terrorism. The individuals, Fathur Rohman AL-GHOZI, Huda bin Abdul HAQ and Imam SUMUDRA were designated pursuant to Executive Order 13224 on September 5, 2003.

DATES: The removal of the three individuals from the list of Specially Designated Nationals and Blocked Persons whose property and interests in property have been blocked pursuant to Executive Order 13224 is effective as of Thursday, May 6, 2010.

FOR FURTHER INFORMATION CONTACT: Assistant Director, Compliance Outreach & Implementation, Office of Foreign Assets Control, Department of the Treasury, Washington, DC 20220, tel.: 202-622-2490.

SUPPLEMENTARY INFORMATION:

Electronic and Facsimile Availability

This document and additional information concerning OFAC are available from OFAC's Web site (http://www.treas.gov/ofac) or via facsimile through a 24-hour fax-on-demand service, tel.: 202-622-0077.

Background

On September 23, 2001, the President issued Executive Order 13224 (the “Order”) pursuant to the International Emergency Economic Powers Act, 50 U.S.C. 1701-1706, and the United Nations Participation Act of 1945, 22 U.S.C. 287c, imposing economic sanctions on persons who commit, threaten to commit, or support acts of terrorism. The President identified in the Annex to the Order various individuals and entities as subject to the economic sanctions. The Order authorizes the Secretary of the Treasury, in consultation with the Secretary of State, the Attorney General, and (pursuant to Executive Order 13284) the Secretary of the Department of Homeland Security, to designate additional persons or entities determined to meet certain criteria set forth in Executive Order 13224.

On April 19, 2002, one additional person and, on August 28, 2002, twelve additional entities were designated by the Secretary of the Treasury. The Department of the Treasury's Office of Foreign Assets Control has determined that these three individuals no longer meet the criteria for designation under the Order and are appropriate for removal from the list of Specially Designated Nationals and Blocked Persons.

The following designations are removed from the list of Specially Designated Nationals and Blocked Persons:

AL-GHOZI, Fathur Rohman (a.k.a. AL GHOZI, Fathur Rahman; a.k.a. AL GHOZI, Fathur Rohman; a.k.a. ALGHOZI, Fathur Rahman; a.k.a. AL-GHOZI, Fathur Rahman; a.k.a. ALGHOZI, Fathur Rohman; a.k.a. AL-GOZHI, Fathur Rahman; a.k.a. AL-GOZHI, Fathur Rohman; a.k.a. AL-GOZI, Fathur Rahman; a.k.a. AL-GOZI, Fathur Rohman; a.k.a. ALI, Randy; a.k.a. ALIH, Randy; a.k.a. ALIH, Randy Adam; a.k.a. AZAD, Rony; a.k.a. BIN AHAD, Rony Azad; a.k.a. BIN AHMAD, Rony Azad; a.k.a. BIN AMAD, Rony Azad; a.k.a. EDRIS, Anwar Rodin; a.k.a. JAMIL, Sammy Sali; a.k.a. JAMIL, Sammy Salih; a.k.a. RANDY, Alih; a.k.a. “ABU SA'AD”; a.k.a. “ABU SAAD”; a.k.a. “FREEDOM FIGHTER”); DOB 17 Feb 1971; POB Madiun, East Java, Indonesia; nationality Indonesia; Passport GG 672613 (Philippines) (individual) [SDGT].

HAQ, Huda bin Abdul (a.k.a. AL MUKHLAS, Ali Gufron; a.k.a. GHUFRON, Ali; a.k.a. GUFRON, Ali; a.k.a. MUCHLAS; a.k.a. MUKHLAS; a.k.a. MUKLAS; a.k.a. “SOFWAN”); DOB 9 Feb 1960; alt. DOB 2 Feb 1960; POB Solokuro subdistrict, Lamongan district, East Java province, Indonesian; nationality Indonesia (individual) [SDGT].

SAMUDRA, Imam (a.k.a. BIN SIHABUDIN, Abdul Aziz; a.k.a. YUNSHAR, Faiz; a.k.a. “ABDUL AZIZ”; a.k.a. “ABU OMAR”; a.k.a. “FATIH”; a.k.a. “HENDRI”; a.k.a. “HERI”; a.k.a. “KUDAMA”); DOB 14 Jan 1970; POB Serang, Banten, Indonesia (individual) [SDGT].

The removal of the three individual's names from the list of Specially Designated Nationals and Blocked Persons is effective as of Thursday, May 6, 2010. All property and interests in property of the three individuals that are in or hereafter come within the United States or the possession or control of United States persons are now unblocked.

Dated: May 6, 2010.
Adam J. Szubin,
Director, Office of Foreign Assets Control.

[FR Doc. 2010-11220 Filed 5-11-10; 8:45 am]

BILLING CODE 4810-AL-P